DEPARTMENT OF TRANSPORTATION

Coast Guard

33 CFR Part 117

[CGD01-01-045]

RIN 2115-AE47

Drawbridge Operation Regulations; Jamaica Bay and Connecting Waterways, New York

AGENCY: Coast Guard, DOT.

ACTION: Temporary final rule.

SUMMARY: The Coast Guard is establishing a temporary final rule governing the operation of the Marine Parkway Bridge, at mile 3.0, across Rockaway Inlet in New York. This temporary final rule allows the bridge owner to open this vertical lift bridge to a maximum of 105 feet for vessel traffic from 8 a.m. on April 30, 2001 through 4:30 p.m. on December 31, 2001. This action is necessary to facilitate maintenance at the bridge.

DATES: This temporary final rule is effective from April 30, 2001 through December 31, 2001.

ADDRESSES: The public docket and all documents referred to in this notice are available for inspection or copying at the First Coast Guard District, Bridge Branch Office, 408 Atlantic Avenue, Boston, Massachusetts, 02110, 7 a.m. to 3 p.m., Monday through Friday, except Federal holidays.

FOR FURTHER INFORMATION CONTACT: Mr. Joseph Schmied, Project Officer, First Coast Guard District, (212) 668-7165.

SUPPLEMENTARY INFORMATION:

Regulatory Information

Pursuant to 5 U.S.C. 553, a notice of proposed rulemaking (NPRM) was not published for this regulation. Good cause exists for not publishing a NPRM because the Coast Guard has determined that it is unnecessary. No vessels known to use this waterway would be precluded from transiting the bridge as a result of the reduction in vertical opening capability from 152 feet to 105 feet. The bridge has not opened beyond 105 feet during the past four years. Additionally, conclusive information from the bridge owner confirming the start date for this bridge maintenance was not provided to the Coast Guard until March 15, 2001. As a result, it was impracticable to draft or publish a NPRM in advance of the requested start date for this necessary maintenance. Any delay encountered in this regulation's effective date would be contrary to the public interest because these repairs are necessary to insure public safety and insure continued operation of the bridge.

Background

The Marine Parkway Bridge, at mile 3.0, across Rockaway Inlet has a vertical clearance of 152 feet at mean high water and 156 feet at mean low water in the full open position. The existing regulations are listed at 33 CFR 117.795(a).

The bridge owner, the Metropolitan Transit Administration (MTA) Bridges and Tunnels, requested that the bridge be allowed to open no greater than 105 feet above mean high water to facilitate repairs at the bridge. The Coast Guard has determined that the bridge has not opened greater than 105 feet during the past four years.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040; February 26, 1979). This conclusion is based on the fact that the bridge will still continue to open for navigation.

Small Entities

Under the Regulatory Flexibility Act (5 U.S.C. 601-612) we considered whether this rule would have a significant economic impact on a substantial number of small entities. “Small entities” comprises small businesses, not-for profit organizations that are independently owned and operated and are not dominant in their fields, and governmental jurisdictions with populations less than 50,000.

The Coast Guard certifies under 5 U.S.C. 605(b) that this rule will not have a significant economic impact on a substantial number of small entities. This conclusion is based on the fact that the bridge will continue to open for navigation.

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard considered the environmental impact of this rule and concluded that under figure 2-1, paragraph (32)(e) of Commandant Instruction M16475.1C, this rule is categorically excluded from further environmental documentation because promulgation of changes to drawbridge regulations have been found to not have a significant effect on the environment. A written “Categorical Exclusion Determination” is not required for this rule.

List of Subjects in 33 CFR Part 117

Bridges.

Regulations

For the reasons set out in the preamble, the Coast Guard amends 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. From April 30, 2001 through December 31, 2001, § 117.795 is temporarily amended by suspending paragraph (a) and adding a new paragraph (d) to read as follows:

§ 117.795 Jamaica Bay and connecting waterways.

* * * * *

(d) The draw of the Marine Parkway Bridge, mile 3.0, over Rockaway Inlet, shall open on signal, to a maximum vertical height of 105 feet above mean high water, Monday through Friday from 8 a.m. to 4 p.m. At all other times, the draw shall open on signal, to a maximum vertical height of 105 feet above mean high water, if at least an eight-hour notice is given; however, the draw shall open on signal if at least one-hour notice is given for the passage of U.S. Navy or National Oceanic and Atmospheric Administration vessels.

Dated: March 29, 2001.
G.N. Naccara,
Rear Admiral, U.S. Coast Guard, Commander, First Coast Guard District.

[FR Doc. 01-8445 Filed 4-6-01; 8:45 am]

BILLING CODE 4910-15-P